DEPARTMENT OF LABOR

Employment and Training Administration

[TA-W-38,396]

Philips Electronics North American Corporation, Philips Display Components Company Ottawa, OH; Notice of Negative Determination Regarding Application for Reconsideration

By application of February 23, 2001, the International Brotherhood of Electrical Workers (IBEW), Local 1654, requests administrative reconsideration of the Department's negative determination regarding eligibility for workers and former workers of the subject firm to apply for Trade Adjustment Assistance (TAA). The denial notice was signed on January 24, 2001, and was published in the Federal Register on February 20, 2001 (66 FR 10916).

Pursuant to 29 CFR 90.18(c) reconsideration may be granted under the following circumstances:

(1) If it appears on the basis of facts not previously considered that the determination complained of was erroneous;

(2) if it appears that the determination complained of was based on a mistake in the determination of facts not previously considered; or

(3) if in the opinion of the Certifying Officer, a mis-interpretation of facts or of the law justified reconsideration of the decision.

The TAA petition for workers at Philips Electronics North America Corporation, Philips Display Components Company, Ottawa, Ohio, was denied because criterion (3) of Section 222 of the Trade Act of 1974, as amended, was not met. The workers were engaged in employment related to yoke matching which is attaching a yoke to the back of a television picture tube. The investigation found that layoffs occurred when the company shifted yoke matching to Mexico. The workers are separately identifiable by product line. The yoke matching operation is not imported. Furthermore, yoke matching increased up until the shift to Mexico.

The petitioner provides a history of cathode ray tube (CRT) production at the Ottawa facility over the past 50 years and describes various operations that the company is transferring abroad. A shift of production to a foreign location is not a criterion for worker group eligibility. Increases of imports of articles like or directly competitive with those produced by the workers must contribute importantly to sales or production declines and worker separations.

Workers engaged in yoke matching were certified eligible, on January 24, 2001, to apply for North American Free Trade Agreement-Transitional Adjustment Assistance under NAFTA-4336.

Conclusion

After review of the application and investigative findings, I conclude that there has been no error or misinterpretation of the law or of the facts which would justify reconsideration of the Department of Labor's prior decisions. Accordingly, the application is denied.

Signed at Washington, DC, this 30th day of April, 2001.
Linda G. Poole,
Certifying Officer, Division of Trade Adjustment Assistance.

[FR Doc. 01-12563 Filed 5-17-01; 8:45 am]

BILLING CODE 4510-30-M